DEPARTMENT OF COMMERCE

International Trade Administration

Executive-Led Wastewater Treatment Business Development Mission to China From June 11-17, 2017

AGENCY: International Trade Administration, Department of Commerce.

ACTION: Notice.

SUMMARY: The United States Department of Commerce, International Trade Administration (ITA), Executive-led Wastewater Treatment Business Development Mission to China from June 11-17, 2017 is amending the Notice Published at 82 FR 11895 (February 27, 2017) regarding the Executive-Led Wastewater Treatment Business Development Mission to China from June 11-17, 2017, to modify the title to High-Level Wastewater Treatment Business Development Mission to China from June 11-17, 2017 and to modify the selection process of applicants on a rolling basis starting immediately with a maximum number of 15 participants. Applications received after May 11, 2017, will be considered only if space and scheduling constraints permit.

SUPPLEMENTARY INFORMATION: Amendments to revise the selection process.

Background

It has been determined that the selection process of companies interested in participating in the mission will be vetted on a rolling basis. All applications will be evaluated on their ability to meet certain conditions and best satisfy the selection criteria outlined under the conditions of participation clause. Applications for this Mission will be accepted through May 11, 2017. The Department of Commerce will evaluate all applications and inform applicants of selection decisions as soon as possible after this application deadline (and after that date if space remains and scheduling constraints permit).

Contact Information: Pamela Kirkland, International Trade Specialist, Trade Missions, U.S. Department of Commerce, Washington, DC 20230, Tel: 202-482-3587, Fax: 202-482-9000, Pamela.kirkland@trade.gov.

Frank Spector,
Trade Missions Program.

[FR Doc. 2017-07212 Filed 4-10-17; 8:45 am]

BILLING CODE 3510-DR-P